DEPARTMENT OF TRANSPORTATION

Great Lakes St. Lawrence Seaway Development Corporation

33 CFR Part 401

RIN 2135-AA55

Seaway Regulations and Rules: Periodic Update, Various Categories

AGENCY: Great Lakes St. Lawrence Seaway Development Corporation, DOT.

ACTION: Final rule.

SUMMARY: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the regulations and rules in various categories. These changes are to clarify existing requirements in the regulations.

DATES: This rule is effective on March 22, 2024.

ADDRESSES: Docket: For access to the docket to read background documents or comments received, go to https://www.Regulations.gov; or in person at the Docket Management Facility; U.S. Department of Transportation, 1200 New Jersey Avenue SE, West Building Ground Floor, Room W12-140, Washington, DC 20590-001, between 9 a.m. and 5 p.m., Monday through Friday, except Federal holidays.

FOR FURTHER INFORMATION CONTACT: Carrie Mann Lavigne, Chief Counsel, Great Lakes St. Lawrence Seaway Development Corporation, 180 Andrews Street, Massena, New York 13662; (315) 764-3200.

SUPPLEMENTARY INFORMATION: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories. The changes update the following sections of the Regulations and Rules: Condition of Vessels, Seaway Navigation, Radio Communications, and Information and Reports. These changes are to clarify existing requirements in the regulations.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit https://www.Regulations.gov.

The joint regulations will become effective in Canada on March 22, 2024. For consistency, because these are joint regulations under international agreement, and to avoid confusion among users of the Seaway, the GLS finds that there is good cause to make the U.S. version of the amendments effective on the same date.

Regulatory Evaluation

This regulation involves a foreign affairs function of the United States and therefore, Executive Order 12866 does not apply and evaluation under the Department of Transportation's Regulatory Policies and Procedures is not required.

Regulatory Flexibility Act Determination

I certify that this regulation will not have a significant economic impact on a substantial number of small entities. The St. Lawrence Seaway Regulations and Rules primarily relate to commercial users of the Seaway, the vast majority of whom are foreign vessel operators. Therefore, any resulting costs will be borne mostly by foreign vessels.

Environmental Impact

This regulation does not require an environmental impact statement under the National Environmental Policy Act (49 U.S.C. 4321, et seq.) because it is not a major Federal action significantly affecting the quality of the human environment.

Federalism

The Corporation has analyzed this rule under the principles and criteria in Executive Order 13132, dated August 4, 1999, and has determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Great Lakes St. Lawrence Seaway Development Corporation is amending 33 CFR part 401 as follows:

PART 401—SEAWAY REGULATIONS AND RULES

Subpart A—Regulations

1. The authority citation for part 401 continues to read as follows:

Authority: 33 U.S.C. 983(a) and 984(a)(4), as amended; 49 CFR 1.101, unless otherwise noted.

2. Revise § 401.8 to read as follows:

§ 401.8 Landing booms.

(a) Vessels of more than 50 m in overall length and a freeboard of 2m or more shall either be equipped with landing booms or make their own provisions for tie-up at the approach walls.

(b) For vessels with landing booms:

(1) Vessel must be equipped with an adequate landing boom on each side;

(2) Landing booms must be in compliance with applicable regulations;

(3) Vessel's crews shall be adequately trained in the use of landing booms for the purpose of landing crew ashore.

(4) Vessel must have onboard for inspection the following documents:

(i) A copy of the test certificates for each of the landing booms from either a classification society or a third party, dated within 5 years;

(ii) Documents to demonstrate appropriate training;

(iii) Documented tests and maintenance records of landing boom equipment.

(c) At the U.S. Locks, vessels not equipped with or not using landing booms may be tied up at the approach walls based on Lock personnel availability.

(d) At the Canadian Locks, vessels not equipped with or not using landing booms should make alternate arrangements for tie-up at approach walls prior to commencing transit of the Seaway. Example: ship contract in place with a 3rd party service provider where ship is responsible for contacting provider.

(1) Vessels that do not have a tie-up strategy in place for the lock approach walls may be delayed and/or put to anchor until such time that the traffic pattern can accommodate their transit.

(2) [Reserved]

3. Amend § 401.9 by adding new paragraphs (a)(1) and (a)(2) to read as follows:

§ 401.9 Radio telephone and navigation equipment.

(a) * * *

(1) All communications shall be on the applicable VHF frequency. The use of personal electronic devices for communication between vessels or with traffic control should be limited to necessity.

(2) Please note that communications into the Traffic Control Center may be recorded for quality assurance and training purposes.

* * * * *

4. Amend § 401.19 by revising paragraph (a) and paragraph (b)(2) to read as follows:

§ 401.19 Disposal and Discharge Systems.

(a) Every vessel not equipped with containers for ordure shall be equipped with a sewage disposal system enabling compliance with the Vessel Pollution and Dangerous Chemicals regulations (Canada), the U.S. Clean Water Act, and the U.S. Rivers and Harbors Act of 1899, and amendments thereto.

(b) * * *

(2) Retained on board in covered, leak-proof containers, until such time as it can be disposed of in accordance with the provisions of the Vessel Pollution and Dangerous Chemicals regulations (Canada), the U.S. Clean Water Act and the U.S. Rivers and Harbors Act of 1899, and amendments thereto.

* * * * *

5. Amend § 401.20 by revising paragraph (b)(4) to read as follows:

§ 401.20 Automatic Identification System.

* * * * *

(b) * * *

(4) International Maritime Organization (IMO) Guidelines for Installation of Shipborne Automatic Identification System (AIS), NAV 48/18, 6 January 2003, as amended, and, for ocean vessels only, with a pilot plug, as specified in Section 3.2 of those Guidelines, installed close to the primary conning position in the navigation bridge and a power source accessible for the pilot's laptop computer; and

* * * * *

6. Amend § 401.29 by revising paragraphs (b) and (c) to read as follows:

§ 401.29 Maximum draft.

* * * * *

(b) The draught of a vessel shall meet minimum draft requirements as defined at inspection on the Enhanced Ship Inspection form and not, in any case, exceed 79.2 dm or the maximum permissible draught designated in a Seaway Notice by the Manager and the Corporation for the part of the Seaway in which a vessel is passing.

(c) Any vessel will be permitted to load at an increased draught of not more than 7 cm above the maximum permissible draught in effect as prescribed under 401.29(b) if it is equipped with a Draught Information System (DIS) and meets the following:

(1) An operational Draught Information System (DIS) approved by a member of the International Association of Classification Societies (IACS) as compliant with the Implementation Specifications found at www.greatlakes-seaway.com and having onboard;

(i) An operational AIS with accuracy approved by the Seaway; and

(ii) Up-to-date electronic charts; and

(iii) Up-to-date charts containing high resolution bathymetric data; and

(iv) Vessels must be equipped with a bow thruster and bow thruster must be operational.

(2) The DIS Tool Display shall be located as close to the primary conning position and be visible and legible.

(i) Verification document of the DIS must be kept on board the vessel at all times and made available for inspection;

(ii) DIS license to use the software must be valid;

(iii) A company letter attesting to officer training on use of the DIS must be kept on board and made available for inspection;

(iv) When transiting Seaway waters with the DIS, a trained officer on the use of the DIS must be on the bridge;

(v) Any vessel intending to use the DIS for the first time must notify the Manager or the Corporation in writing at least 24-hours prior to commencement of its initial transit in the System with the DIS in order to arrange for appropriate testing for approval to use the DIS;

(vi) Every navigation season, each vessel intending to use an approved DIS to transit the System must submit a completed confirmation checklist found at www.greatlakes-seaway.com to the Manager or the Corporation prior to its initial transit of the season;

(vii) If for any reason the DIS, AIS, or bow thruster becomes inoperable, malfunctions or is not used while the vessel is transiting at a draught greater than the maximum permissible draught prescribed under 401.29(b) in effect at the time, the vessel must notify the Manager or the Corporation immediately.

7. Revise § 401.44 to read as follows:

§ 401.44 Mooring in locks.

(a) The primary means of securing vessels in the locks is by way of the Hands-Free Mooring (HFM) system. Vessels being moored by HFM must have a minimum of one well rested crew member on deck during the lockage to assist the Bridge team.

(b) Single tugs, tug/barge combinations, and small vessels (less than 160m in overall length) that are not eligible to use HFM are to be processed without mooring lines at the Canadian Locks with the exception of upbound lockages at Locks 4, 5 and 6 in the Welland Canal.

(c) Vessels requiring the use of mooring lines shall be processed as follows:

(1) Mooring lines shall only be placed on mooring posts as directed by the officer in charge of the mooring operation.

(2) No winch from which a mooring line runs shall be operated until the officer in charge of a mooring operation has signaled that the line has been placed on a mooring post.

(3) Once the mooring lines are on the mooring posts, lines shall be kept slack until the “all clear” signal is given by the lock personnel. When casting off signal is received, mooring lines shall be kept slack until the “all clear” signal is given by the lock personnel.

(4) Vessels being moored by “Hands Free Mooring” system (HFM) or passing through a lock without the use of mooring lines shall have a minimum of one well rested crew member on deck during the lockage to assist the Bridge team.

8. Amend § 401.47 by revising paragraph (b) to read as follows:

§ 401.47 Leaving a lock.

* * * * *

(b) No vessel shall proceed out of a lock until the exit gates, ship arresters and the bridge, if any, are in a fully open position and the lock operator gives the “all clear” instruction.

* * * * *

9. Amend § 401.57 by adding new paragraph (d) to read as follows:

§ 401.57 Disembarking or Boarding.

* * * * *

(d) Persons intending on disembarking or boarding a vessel shall only do so after they have confirmed with the Captain that the vessel is fully secured in the lock with Hands-Free Mooring or with mooring lines.

10. Amend § 401.65 by revising paragraph (d) to read as follows:

§ 401.65 Communication—Ports, docks and anchorages.

* * * * *

(d) Every vessel intending to conduct a dive operation and/or Remotely Operated Vehicle (ROV) inspection at a dock, wharf or approach wall shall provide a 24-hour minimum notice of diving operations to the appropriate Seaway Traffic control Centre.

11. Revise § 401.79 to read as follows:

§ 401.79 Advance notice of arrival, vessels requiring inspection.

(a) USCG Advance Notice of Arrival—All foreign flagged ships of 300 GRT or above intending to transit the Seaway shall submit one completed United States Coast Guard (USCG) Electronic Notice of Arrival (ENOA) prior to entering at call in point 2 (CIP 2) as follows:

(1) If your voyage time to CIP 2 is 96 hours or more, you must submit an ENOA 96 hours before entering the Seaway at CIP 2.

(2) If your voyage time to CIP 2 is less than 96 hours, you must submit an ENOA before departure, but at least 24 hours before entering the Seaway at CIP 2.

(3) If there are changes to the ENOA, submit them as soon as practicable but at least 12 hours before entering the Seaway at CIP 2.

(4) The NOA must be provided electronically following the USCG National Vessel Movement Center's (NVMC) procedures (http://www.nvmc.uscg.gov).

(5) To complete the ENOA correctly for Seaway entry, select the following:

(i) “CIP 2” as the Arrival Port,

(ii) “Foreign to Saint Lawrence Seaway” as the Voyage Type, and

(iii) “Saint Lawrence Seaway Transit” as the Arrival State, City and Receiving Facility.

(b) Foreign Vessel Inspection program:

(1) Enhanced Ship Inspections (ESI)—physical vessel inspection: Foreign flagged vessels are subject to a Seaway inspection once every two navigation seasons. Agents must provide an initial notice of inspection 120 hours prior to the ship's arrival at CIP2. (to: inspecteursvm@seaway.ca and to vtc@dot.gov).

(2) Subject to satisfactory performance, a Self-Inspection may be permitted in the interim season. Vessel to complete a Foreign Self Inspection report and submit electronically to inspecteursvm@seaway.ca and to vtc@dot.gov.

(3) The ESI or self-inspection is required on the first transit of the navigation season.

(4) Inland self-inspection: Inland domestic vessels which are approved by the Seaway and are ISM certified and have a company quality management system, must submit the “Self-Inspection Report”, every 2 navigation seasons and not later than 30 days after “fit out”.

(5) Inland domestic vessels not participating in the “Self-Inspection Program” are subject to Seaway inspection prior to every transit of the Seaway.

(6) Tug/barge combinations not on the “Seaway Approved Tow” list are subject to Seaway inspection prior to every transit of the Seaway unless provided with a valid Inspection Report for a round trip transit.

(7) A tall vessel, passenger vessel, or vessel of an unusual design is subject to Seaway yearly inspection.

12. Amend § 401.84 by redesignating paragraphs (d) through (g) as paragraphs (e) through (h) and add new paragraph (d) to read as follows:

* * * * *

(d) any malfunction on the vessel of equipment and machinery that is noted as operational in the current “Enhanced Ship Inspection” or “Self Inspection” of the vessel;

* * * * *

Issued at Washington, DC, under authority delegated at 49 CFR part 1.101.
Great Lakes St. Lawrence Seaway Development Corporation.
Carrie Lavigne,
Chief Counsel.

[FR Doc. 2024-04744 Filed 3-5-24; 8:45 am]

BILLING CODE 4910-61-P